DEPARTMENT OF LABOR

Employment and Training Administration

[TA-W-65,181]

Stanley Access Technologies, a Subsidiary of Stanley Works, Farmington, CT; Notice of Termination of Investigation

Pursuant to Section 221 of the Trade Act of 1974, as amended, an investigation was initiated on February 9, 2009 in response to a petition filed by a state agency representative on behalf of workers of Stanley Access Technologies, a subsidiary of Stanley Works, Farmington, Connecticut.

The petitioner has requested that the petition be withdrawn. Therefore, the investigation under this petition has been terminated.

Signed at Washington, DC, this 20th of March 2009.
Linda G. Poole,
Certifying Officer, Division of Trade Adjustment Assistance.

[FR Doc. E9-7749 Filed 4-9-09; 8:45 am]

BILLING CODE 4510-FN-P